FEDERAL COMMUNICATIONS COMMISSION

[OMB 3060-XXXX; FR ID 118494]

Information Collection Being Reviewed by the Federal Communications Commission

AGENCY: Federal Communications Commission.

ACTION: Notice and request for comments.

SUMMARY: As part of its continuing effort to reduce paperwork burdens, and as required by the Paperwork Reduction Act (PRA) of 1995, the Federal Communications Commission (FCC or the Commission) invites the general public and other Federal agencies to take this opportunity to comment on the following information collection. Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees. The FCC may not conduct or sponsor a collection of information unless it displays a currently valid control number. No person shall be subject to any penalty for failing to comply with a collection of information subject to the PRA that does not display a valid Office of Management and Budget (OMB) control number.

DATES: Written PRA comments should be submitted on or before February 14, 2023. If you anticipate that you will be submitting comments, but find it difficult to do so within the period of time allowed by this notice, you should advise the contact listed below as soon as possible.

ADDRESSES: Direct all PRA comments to Nicole Ongele, FCC, via email PRA@fcc.gov and to nicole.ongele@fcc.gov.

FOR FURTHER INFORMATION CONTACT: For additional information about the information collection, contact Nicole Ongele, (202) 418-2991.

SUPPLEMENTARY INFORMATION:

OMB Control Number: 3060-XXXX. Title: Resilient Networks.

Form No.: N/A.

Type of Review: New collection.

Respondents: Business or other for-profit.

Number of Respondents and Responses: 75 respondents; 1,725 responses.

Estimated Time per Response: 1 hour-20 hours.

Frequency of Response: One-time, on occasion and annual reporting requirements.

Obligation to Respond: Mandatory. Statutory authority for this information collection is contained in Sections 1, 4(i), 4(j), 4(o), 201(b), 214(d), 218, 251(e)(3), 301, 303(b), 303(g), 303(j), 303(r), 307, 309(a), 309(j), 316, 332, 403, 615a-1, and 615c of the Communications Act of 1934, as amended, 47 U.S.C. 151, 154(i)-(j) & (o), 201(b), 214(d), 218, 251(e)(3), 301, 303(b), 303(g), 303(j), 303(r), 307, 309(a), 309(j), 316, 332, 403, 615a-1, and 615c.

Total Annual Burden: 4,575 hours.

Total Annual Cost: No Cost.

Privacy Act Impact Assessment: No impact(s).

Nature and Extent of Confidentiality: If appropriate, respondents may include a request for confidential treatment under Section 0.459 of the Commission's rules. 47 CFR 0.459 with information supplied under this information collection.

Needs and Uses: The nation's communications networks provide a significant lifeline for those in need during disasters and other emergencies. Recent events, including Hurricane Ida, earthquakes in Puerto Rico, severe winter storms in Texas, and active hurricane and wildfire seasons, have demonstrated however that the United States' communications infrastructure is susceptible to disruption during disaster events. To address this issue, the Federal Communications Commission adopted a Report and Order in June 2022 to improve the reliability and resiliency of mobile wireless networks. See 87 FR 59329 (2022). In the Report and Order, the Commission introduced the Mandatory Disaster Response Initiative (MDRI) and set forth requirements that the nation's facilities-based mobile wireless providers must take to ensure their compliance the MDRI. Pursuant to the MDRI, these providers must take action related to roaming with other providers, mutual aid agreements, municipal preparedness and restoration and consumer readiness and preparation. These providers must also submit reports to the Commission detailing the timing, duration, and effectiveness of their implementation of the MDRI's provisions on request, perform annual testing of their roaming capabilities and related coordination processes, and issue written denials of roaming requests, among other requirements.

The Commission submits this information collection, which seeks to have collected information described in the Report and Order, to support its adoption of the MDRI. The collected information will be used by the Commission, consumers and consumer groups, service providers to realize significant public safety benefits. For example, consumers and consumer groups will use the information to increase consumer education and improve consumer preparedness for disasters and other emergencies. Further, providers will use the information to ensure that roaming will work expeditiously in times of emergencies and to better understand their network capabilities related to roaming and ensure their networks roam as effectively as possible when a disaster strikes. Further, the Commission will use information as a basis for potential future improvements to the MDRI and other programs in furtherance of public safety, including by gauging providers' compliance with the MDRI's roaming provision, ensuring accountability by providers who fail to comply and for resolving disputes related to roaming agreements. Thus, the information sought in this collection is necessary and vital to ensuring that the MDRI is effective at protecting the life and property of the public.

Federal Communications Commission.
Marlene Dortch,
Secretary, Office of the Secretary.

[FR Doc. 2022-27306 Filed 12-15-22; 8:45 am]

BILLING CODE 6712-01-P